Title 3—

The President

Proclamation 9952 of October 18, 2019

National Character Counts Week, 2019

By the President of the United States of America

A Proclamation

Since our Nation's founding, we have recognized that the good character of our people is vital to maintaining our freedom. The strength of our Union and the defense of our precious liberty require both constant vigilance and moral clarity. During National Character Counts Week, we reaffirm our commitment to developing and demonstrating admirable qualities to enrich our lives and the lives of others. In doing so, we are confident that we can positively influence the next generation of our Nation's leaders and inspire them to lead lives of virtue and integrity.

As history teaches us, no person or piece of legislation is capable of securing and advancing freedom for a nation that fails to instill moral principles in its people. Parents, mentors, and educators have been instrumental in forming and developing values in our young people for generations, and cultivating character is critical for our Nation's youth. Building strong character in our youth helps provide them with a moral compass that will help them navigate life's many challenges and decisions, and we have an obligation to set a great example for the next generation. To advance this goal of developing a solid foundation for social responsibility in our young people, First Lady Melania Trump is promoting the importance of the values of kindness, compassion, and respect through her BE BEST initiative.

Our American story is rich with famous examples of those with outstanding character, including President Washington's admirable humility, President Lincoln's strong will and honesty, and President Eisenhower's courage. Character worthy of our Nation's praise is also found in the lives of ordinary Americans. From the service members of our Armed Forces and law enforcement officials to public servants and educators, our communities are filled with patriots who demonstrate selflessness, honor, respect, and devotion to duty as they perform their daily responsibilities. These virtues are also found in volunteers who reach out to those in need, members of the clergy who pray for the brokenhearted, children who befriend the bullied, and all those who extend compassion and kindness to others. These Americans fortify our Nation's ideals and influence future generations by leading lives governed by principle and conviction. By their example, they remind us that character is developed consciously through exemplary effort and respect for others.

Throughout this week, and each day of our lives, may we strive to demonstrate good character through our thoughts, discourse, and deeds in our homes, schools, workplaces, and houses of worship. Let us set an example for others of the timeless values of respect, compassion, justice, tolerance, fairness, and integrity. May we never forget that our Nation is only as strong as the virtue and character of our citizenry.

NOW, THEREFORE, I, DONALD J. TRUMP, President of the United States of America, by virtue of the authority vested in me by the Constitution and the laws of the United States, do hereby proclaim October 20 through October 26, 2019, as National Character Counts Week. I call upon public officials, educators, parents, students, and all Americans to observe this week with appropriate ceremonies, activities, and programs.

IN WITNESS WHEREOF, I have hereunto set my hand this eighteenth day of October, in the year of our Lord two thousand nineteen, and of the Independence of the United States of America the two hundred and forty-fourth.

[FR Doc. 2019-23434

Filed 10-23-19; 11:15 am]

Billing code 3295-F0-P